DEPARTMENT OF COMMERCE

International Trade Administration

A-533-809

Certain Forged Stainless Steel Flanges from India; Preliminary Results of Antidumping Duty Changed Circumstances Review

AGENCY: Import Administration, International Trade Administration, Department of Commerce

SUMMARY: On March 20, 2008, the Department of Commerce (the Department) published a notice of initiation of changed circumstances review of the antidumping duty order on certain forged stainless steel flanges (flanges) from India to determine whether India Steel Works, Ltd. (India Steel) is the successor-in-interest to Isibars, Ltd (Isibars). See Notice of Initiation of Antidumping Duty Changed Circumstances Review: Certain Forged Stainless Steel Flanges from India, 73 FR 14959 (March 20, 2008). We have preliminarily determined that India Steel is the successor-in-interest to Isibars for purposes of determining antidumping liability in this proceeding. Interested parties are invited to comment on these preliminary results.

EFFECTIVE DATE: May 19, 2008.

FOR FURTHER INFORMATION CONTACT: Fred Baker or Robert James, AD/CVD Operations, Office 7, Import Administration, International Trade Administration, U.S. Department of Commerce, 14th Street and Constitution Avenue, NW, Washington, DC 20230; telephone: (202) 482-2924 or (202) 482-0649, respectively.

SUPPLEMENTARY INFORMATION:

Background

On February 26, 2008, India Steel requested that the Department conduct a changed circumstances review of the antidumping duty order on flanges from India pursuant to section 751(b) of the Tariff Act of 1930, as amended (the Tariff Act), and 19 CFR 351.216. India Steel claims to be the successor-in-interest to Isibars, and, as such, argues that it is entitled to receive the same antidumping treatment as Isibars. On April 16, 2008, at the request of the Department, India Steel submitted additional information and documentation pertaining to its changed circumstances request.

Scope of the Order

The products covered by this order are certain forged stainless steel flanges, both finished and not finished, generally manufactured to specification ASTM A-182, and made in alloys such as 304, 304L, 316, and 316L. The scope includes five general types of flanges. They are weld-neck, used for butt-weld line connection; threaded, used for threaded line connections; slip-on and lap joint, used with stub-ends/butt-weld line connections; socket weld, used to fit pipe into a machined recession; and blind, used to seal off a line. The sizes of the flanges within the scope range generally from one to six inches; however, all sizes of the above-described merchandise are included in the scope. Specifically excluded from the scope of this order are cast stainless steel flanges. Cast stainless steel flanges generally are manufactured to specification ASTM A-351. The flanges subject to this order are currently classifiable under subheadings 7307.21.1000 and 7307.21.5000 of the Harmonized Tariff Schedule (HTS). Although the HTS subheading is provided for convenience and customs purposes, the written description of the merchandise under review is dispositive.

Preliminary Results of Review

In antidumping duty changed circumstances reviews involving a successor-in-interest determination, the Department typically examines several factors including, but not limited to, changes in: (1) management; (2) production facilities; (3) supplier relationships; and (4) customer base. See Brass Sheet and Strip from Canada: Final Results of Antidumping Administrative Review, 57 FR 20460, 20462 (May 13, 1992) and Certain Cut-to-Length Carbon Steel Plate from Romania: Initiation and Preliminary Results of Changed Circumstances Antidumping Duty Administrative Review, 70 FR 22847 (May 3, 2005) (unchanged in final, 70 FR 35624 (June 21, 2005)) (Plate from Romania). While no single factor or combination of factors will necessarily be dispositive, the Department generally will consider the new company to be the successor to the predecessor company if the resulting operations are “essentially similar” to those of the predecessor company. See, e.g., Industrial Phosphoric Acid from Israel; Final Results of Antidumping Duty Changed Circumstances Review, 59 FR 6944, 6945 (February 14, 1994), and Plate from Romania, 70 FR 22847. Thus, if the record evidence demonstrates that, with respect to the production and sale of the subject merchandise, the new company operates as the same business entity as the predecessor company, the Department may assign the new company the cash deposit rate of its predecessor. See, e.g., Fresh and Chilled Atlantic Salmon from Norway; Final Results of Changed Circumstances Antidumping Duty Administrative Review, 64 FR 9979, 9980 (March 1, 1999).

In its February 26, 2008, submission India Steel stated it is the successor company to Isibars. The Department now has on the record various documents that support this claim, including: (1) the minutes of a September 29, 2007, stockholders meeting showing the name change was voted upon and approved; (2) a certified copy of a “Fresh Certificate of Incorporation Consequent upon Change of Name,” dated October 22, 2007, issued by the government of India; (3) a list of the stockholders and board of directors before and after the name change, showing that they are identical; (4) an organizational chart before and after the name change showing India Steel has the same organization structure as did Isibars; (5) a list of suppliers and customers before and after the name change showing they are identical; (6) sample copies of letters and e-mail sent to customers announcing the name change; (7) documentation demonstrating that India Steel has the same taxpayer identification number (called the “permanent account number” in India) as did Isibars; (8) documentation demonstrating that India Steel maintains the same bank account as did Isibars; and (9) a certificate of importer and exporter codes for Isibars and India Steel issued by the government of India showing that the codes are identical.

In sum, India Steel has presented evidence to establish a prima facie case of its successorship status. Isibars's name change to India Steel has not changed the operations of the company in a meaningful way. India Steel's management, production facilities, supplier relationships, and customer base are substantially unchanged from those of Isibars. Therefore, the record evidence demonstrates that the new entity essentially operates in the same manner as the predecessor company. Consequently, we preliminarily determine that India Steel should be assigned the same antidumping duty treatment as Isibars, i.e., a 0.00 percent antidumping duty cash deposit rate. See Certain Forged Stainless Steel Flanges from India; Final Results of Antidumping Duty Administrative Review, 69 FR 10409 (March 5, 2004).

The cash deposit determination from this changed circumstances review will apply to all entries of the subject merchandise entered, or withdrawn from warehouse, for consumption on or after the date of publication of the final results of this changed circumstances review. See Granular Polytetrafluoroethylene Resin from Italy; Final Results of Antidumping Duty Changed Circumstances Review, 68 FR 25327 (May 12, 2003). This deposit rate shall remain in effect until publication of the final results of the next administrative review in which India Steel is reviewed.

Public Comment

Interested parties may submit case briefs or written comments no later than 30 days after the date of publication of this notice. Rebuttal briefs and rebuttals to written comments, limited to issues raised in the case briefs and comments, may be filed no later than five days after the time limit for filing the case briefs. See 19 CFR 351.309(d). Parties who submit arguments in these proceedings are requested to submit with their arguments: 1) a statement of the issue; 2) a brief summary of the argument; and 3) a table of authorities. Further, parties submitting written comments should provide the Department an additional copy of the public version of any such comments on diskette. Any interested party may request a hearing within 30 days of publication of this notice. See CFR 351.310(c). Any hearing, if requested, will be held no later than two days after the scheduled due date for submission of rebuttal briefs, or the first business day thereafter, unless the Department alters the date per 19 CFR 351.310(d).

Consistent with section 351.216(e) of the Department's regulations, we will issue the final results of this changed circumstances review no later than 270 days after the date on which this review was initiated.

The current requirements for cash deposits of estimated antidumping duties on all subject merchandise shall remain in effect unless and until they are modified pursuant to the final results of changed circumstances review.

We are issuing and publishing this notice in accordance with sections 751(b) and 777(i)(1) of the Tariff Act, and section 351.221(c)(3)(i) of the Department's regulations.

Dated: May 12, 2008.
David M. Spooner,
Assistant Secretary for Import Administration.

[FR Doc. E8-11147 Filed 5-16-08; 8:45 am]

BILLING CODE 3510-DS-S